ENVIRONMENTAL PROTECTION AGENCY

40 CFR Parts 260, 261, 262, 263, 264, 265, 271

[FRL-7030-4]

RIN 2050-AE21

Extension of Comment Period for the Proposed Modifications of the Hazardous Waste Manifest System

AGENCY: Environmental Protection Agency.

ACTION: Proposed rule; extension of comment period for modifications of the hazardous waste manifest system.

SUMMARY: In response to the Association of State and Territorial Solid Waste Management Officials (ASTSWMO), the Environmental Protection Agency (EPA) is extending the comment period on its proposed modifications to the Uniform Hazardous Waste Manifest regulations. On May 22, 2001 (66 FR 28240), EPA proposed modifications to the hazardous waste manifest system and the manifest form that is used to track hazardous waste shipments during their transportation. The comment period announced in the proposed rule notice was scheduled to end on August 20, 2001. Today's document further extends the comment period on the proposed manifest system modifications until October 4, 2001.

DATES: Written comments on the proposed hazardous waste manifest modifications must be submitted on or before October 4, 2001.

ADDRESSES: Commenters must send an original and two copies of their comments referencing docket number F-2000-UWMP-FFFFF to: RCRA Docket Information Center, Office of Solid Waste (5305W), U.S. Environmental Protection Agency Headquarters (EPA, HQ), Ariel Rios Building, 1200 Pennsylvania Ave., N.W., Washington, DC 20460. Hand deliveries of comments should be made to the Arlington, VA, address below. Comments may also be submitted electronically to: rcra-docket@epa.gov. Comments in electronic format should also be identified by the docket number F-2000-UWMP-FFFFF. All electronic comments must be submitted as an ASCII file avoiding the use of special characters and any form of encryption. Commenters should not submit electronically any confidential business information (CBI). An original and two copies of CBI must be submitted under separate cover to: RCRA CBI Document Control Officer, Office of Solid Waste (5305W), U.S. EPA, Ariel Rios Building, 1200 Pennsylvania Ave., N.W., Washington, DC 20460. Public comments and supporting materials are available for viewing in the RCRA Information Center (RIC), located at Crystal Gateway One, First Floor, 1235 Jefferson Davis Highway, Arlington, VA 22202. The RIC is open from 9 a.m. to 4 p.m., Monday through Friday, excluding federal holidays. To review docket materials, it is recommended that the public make an appointment by calling (703) 603-9230. The public may copy a maximum of 100 pages from any regulatory document at no cost. Additional copies cost $0.15 per page. The index and some supporting materials are available electronically. See the Supplementary Information section for information on accessing them.

FOR FURTHER INFORMATION CONTACT: For general information, contact the RCRA Hotline at (800) 424-9346 or TDD (800) 553-7672 (hearing impaired). In the Washington, DC, metropolitan area, call (703) 412-9810 or TDD (703) 412-3323. For more detailed information on specific aspects of this rulemaking, contact Richard LaShier (5304W), Office of Solid Waste, U.S. Environmental Protection Agency, 401 M Street, SW, Washington, DC 20460, (703) 308-8796, lashier.rich@epa.gov.

SUPPLEMENTARY INFORMATION: The Agency is extending the comment period on this proposed rule in response to a written request for extension submitted to the rulemaking docket by the Hazardous Waste Information Management Task Force of the Association of State and Territorial Solid Waste Management Officials (ASTSWMO). ASTSWMO's membership consists of personnel in the State and territorial hazardous waste programs that have been authorized by EPA to implement hazardous waste programs under the Resource Conservation and Recovery Act (RCRA). The authorized state agencies are significant stakeholders in this rulemaking, as they will be called upon to implement and enforce any changes to the manifest system that result from this rulemaking. In its June 19, 2001 extension request, ASTSWMO pointed out that discussions among the states during the development of the proposal had identified a diversity of opinions among them on the subject matter of the rulemaking. ASTSWMO anticipates that the proposed rule will likewise generate a diversity of comments from the State waste management programs. Therefore, ASTSWMO requested additional time to closely review the proposal to identify all the various issues that may affect the States and require attention during the rulemaking.

The authorized State hazardous waste programs have contributed greatly to this rulemaking since its inception in 1990 with a rulemaking petition from ASTSWMO requesting modifications to the hazardous waste manifest system. EPA values highly the comments that ASTSWMO and its members are developing during the comment period, and the Agency believes that extending the time for submitting written comments will improve the quality and completeness of the comments that we eventually receive in response to the May 22, 2001 proposed rule notice. Therefore, EPA is granting ASTSWMO's extension request, and the Agency has decided to extend the public comment period until October 4, 2001.

Dated: August 3, 2001.
Michael H. Shapiro,
Acting Assistant Administrator, Office of Solid Waste and Emergency Response.

[FR Doc. 01-20136 Filed 8-9-01; 8:45 am]

BILLING CODE 6560-50-P